DEPARTMENT OF EDUCATION

[CDFA Nos: 84.116A and 84.116B]

Office of Postsecondary Education, Fund for the Improvement of Postsecondary Education (FIPSE) Notice Announcing Technical Assistance Workshops on Fiscal Year (FY) 2001 Programs

SUMMARY: This notice provides information about workshops to assist individuals interested in learning more about the Fiscal Year (FY) 2001 programs of the Fund for the Improvement of Postsecondary Education (FIPSE). Program staff will present program information and answer questions about FIPSE's programs. The workshops will focus primarily on the Comprehensive Program, which provides grants for innovative reform projects that hold promise as models for the resolution of important issues and problems in postsecondary education. Additional information about FIPSE's programs can be found on the Internet at the following site: http://www.ed.gov/FIPSE

Although the Department has not yet announced in the Federal Register a closing date for any of its FY 2001 grant competitions, the Department is holding these workshops to give potential applicants relevant background information on FIPSE programs for which grant competitions are expected to be held in FY 2001. Specific requirements for grant competitions will be announced in the Federal Register.

SUPPLEMENTARY INFORMATION: The technical assistance workshops will be held as follows:

1. Charlotte, North Carolina: Friday, November 3, 2000, 1 p.m. to 4 p.m., University of North Carolina at Charlotte, Charlotte, NC.

2. Washington, District of Columbia: Monday, November 6, 2000, 1 p.m. to 4 p.m., U.S. Department of Education, Washington, DC.

3. Chicago, Illinois: Monday, November 13, 2000, 1 p.m. to 3 p.m., Roosevelt University, Chicago, IL.

4. San Bernardino, California: Wednesday, November 15, 2000, 1:30 p.m. to 3 p.m., California State University, San Bernardino, CA.

Registration

Space at the workshops is limited. Interested individuals are invited to register by sending an e-mail message with the subject “Workshop 2000” to: levenia_ishmell@ed.gov

Indicate the location you are requesting. You will receive an e-mail reply confirming the status of your registration along with exact information on workshop locations. All confirmed registrants are asked to bring their printed e-mail confirmation to the workshop.

The meeting sites are accessible to individuals with disabilities. An individual with a disability who will need an auxiliary aid or service to participate in the meeting (e.g., assistive listening device, sign language interpreter, or materials in an alternative format) should notify the listed contact person at least two weeks before the scheduled meeting date. Although the Department will attempt to meet a request received after that date, the requested service may not be available due to insufficient time to arrange it.

FOR FURTHER INFORMATION CONTACT: Levenia Ishmell, U.S. Department of Education, 1990 K Street NW., room 8031, Washington, DC 20006-8544. Telephone: (202) 502-7668 or by e-mail: levenia_ishmell@ed.gov

Individuals with disabilities may obtain this document in an alternate format (e.g., Braille, large print, audiotape, or computer diskette) on request to the contact person listed.

Electronic Access to this Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free at 1-888-293-6498 or in the Washington, DC area at (202) 512-1530.

Note: The official version of this document is the document published in the Federal Register. Free Internet access to the official edition of the Federal Register and the Code of Federal Regulations is available on GPO Access at: http://www.access.gpo.gov/nara/index.html

Program Authority: 20 U.S.C. 1138-1138.

Dated: October 19, 2000.
A. Lee Fritschler,
Assistant Secretary, Office of Postsecondary Education.

[FR Doc. 00-27305 Filed 10-23-00; 8:45 am]

BILLING CODE 4000-01-U